DEPARTMENT OF THE INTERIOR

Bureau of Land Management

[AZ-050-03-1330-NJ; 9260]

Arizona: Notice of Emergency Closure of Public Lands to Motorized Vehicle Use, Yuma County, AZ

AGENCY: Bureau of Land Management, Interior (BLM).

ACTION: Notice of emergency closure of selected public lands located in Yuma County, Arizona, to all types of motor vehicle use.

SUMMARY: Notice is hereby given that all motor vehicle access is prohibited on selected public lands located near the Grey Fox Mine area of the Gila Mountains and within S½N½, NW¼SW¼, sec. 10, T. 8 S, R. 21 W., G&SRM, Yuma, County, Arizona. This action is taken to provide for public safety.

SUPPLEMENTARY INFORMATION: On March 27, 2003, the Yuma Field Manager issued an order closing an unauthorized road to all types of motorized vehicle travel. This action affects approximately 4.5 acres of public lands located north of Yuma, Arizona, and approximately one mile east of Highway 95 at milepost 38. The trespass road has numerous blind curves and hills with no shoulders or turn-out areas. Use by large commercial trucks and earth moving equipment and by smaller off-road vehicles and all-terrain cycles has created a clear danger to public safety. This action is necessary in order to eliminate the risk of collision between these dissimilar vehicles.

Authority for this action is contained in 43 Code of Federal Regulations 8364.1. This closure to motor vehicles shall apply to all persons and shall remain in effect until further notice.

Exemptions to this order are granted to Federal, State and local law enforcement, emergency vehicles, and agency personnel in the course of official duties.

Violation of this regulation is punishable as a Class A misdemeanor by a fine not to exceed $100,000 and/or imprisonment not to exceed 12 months as amended by 18 U.S.C. 3571 and 18 U.S.C. 3581.

EFFECTIVE DATES:This closure will be effective immediately.

FOR FURTHER INFORMATION CONTACT: Thomas Zale, Assistant Field Manager for Resources, Lands, and Minerals, Bureau of Land Management, 2555 E. Gila Ridge Road, Yuma, AZ 85365; (928) 317-3200.

Dated: March 27, 2003.
Gail Acheson,
Field Manager.

[FR Doc. 03-10435 Filed 4-28-03; 8:45 am]

BILLING CODE 4310-32-P